SECURITIES AND EXCHANGE COMMISSION

[Release No. IC-27645]

Notice of Applications for Deregistration Under Section 8(f) of the Investment Company Act of 1940

December 29, 2006.

The following is a notice of applications for deregistration under section 8(f) of the Investment Company Act of 1940 for the month of December, 2006. A copy of each application may be obtained for a fee at the SEC's Public Reference Branch (tel. 202-551-5850). An order granting each application will be issued unless the SEC orders a hearing. Interested persons may request a hearing on any application by writing to the SEC's Secretary at the address below and serving the relevant applicant with a copy of the request, personally or by mail. Hearing requests should be received by the SEC by 5:30 p.m. on January 24, 2007, and should be accompanied by proof of service on the applicant, in the form of an affidavit or, for lawyers, a certificate of service. Hearing requests should state the nature of the writer's interest, the reason for the request, and the issues contested. Persons who wish to be notified of a hearing may request notification by writing to the Secretary, U.S. Securities and Exchange Commission, 100 F Street, NE., Washington, DC 20549-1090.

For Further Information Contact: Diane L. Titus at (202) 551-6810, SEC, Division of Investment Management, Office of Investment Company Regulation, 100 F Street, NE., Washington, DC 20549-4041.

Agilex Funds [File No. 811-21123]

Summary: Applicant seeks an order declaring that it has ceased to be an investment company. On May 30, 2006, applicant made a liquidating distribution to its shareholders, based on net asset value. Expenses of $31,625 incurred in connection with the liquidation were paid by applicant.

Filing Date: The application was filed on December 12, 2006.

Applicant's Address: 200 East Broward Blvd., Suite 920, Fort Lauderdale, FL 33301.

Thirteenth Automatic Common Exchange Security Trust [File No. 811-9431]

Summary: Applicant, a closed-end investment company, seeks an order declaring that it has ceased to be an investment company. Applicant has never made a public offering of its securities and does not propose to make a public offering or engage in business of any kind.

Filing Date: The application was filed on December 5, 2006.

Applicant's Address: Attn: Heather Sahrbeck, Goldman, Sachs & Co., 85 Broad St., New York, NY 10004.

Rydex Capital Partners Sphinx Fund [File No. 811-21278]

Summary: Applicant, a closed-end investment company, seeks an order declaring that it has ceased to be an investment company. On June 2, 2006, applicant transferred its assets to Absolute Return Strategies Fund, a series of Rydex Series Funds, based on net asset value. Expenses of approximately $152,008 incurred in connection with the reorganization were paid by Rydex Capital Partners I, LLC, applicant's investment adviser.

Filing Date: The application was filed on November 30, 2006.

Applicant's Address: 9601 Blackwell Rd., Suite 500, Rockville, MD 20850.

State and Local Trusts, Series 1 [File No. 811-5147]

Summary: Applicant, a unit investment trust, seeks an order declaring that it has ceased to be an investment company. On November 17, 2006, applicant made a liquidating distribution to its unitholders, based on net asset value. Expenses of approximately $3,000 incurred in connection with the liquidation were paid by applicant.

Filing Date: The application was filed on November 22, 2006.

Applicant's Address: 800 Shades Creek Parkway, Suite 700, Birmingham, AL 35209.

Mount Yale Opportunity Fund, LLC [File No. 811-21635]

Summary: Applicant, a closed-end investment company, seeks an order declaring that it has ceased to be an investment company. On September 30, 2006, applicant made a liquidating distribution to its shareholders, based on net asset value. Expenses of $4,000 incurred in connection with the liquidation were paid by Mount Yale Asset Management, LLC, applicant's investment adviser.

Filing Dates: The application was filed on November 7, 2006, and amended on December 20, 2006.

Applicant's Address: 8000 Norman Center Dr., Suite 630, Minneapolis, MN 55437.

GAM Funds, Inc. [File No. 811-4062]

Summary: Applicant seeks an order declaring that it has ceased to be an investment company. On or about September 28, 2006, applicant made a final liquidating distribution to its shareholders, based on net asset value. Expenses of $26,671 incurred in connection with the liquidation were paid by GAM International Management Limited, applicant's investment adviser. Applicant has retained $1,410,759 in cash, which is being held by Brown Brothers Harriman & Co., applicant's custodian, to pay certain outstanding accrued expenses.

Filing Dates: The application was filed on November 13, 2006, and amended on December 14, 2006.

Applicant's Address: 330 Madison Ave., New York, NY 10017.

Man-Glenwood Lexington Institutional TEI, LLC [File No. 811-21772]

Summary: Applicant, a closed-end investment company, seeks an order declaring that it has ceased to be an investment company. Applicant never made a public offering of its securities and does not propose to make a public offering or engage in business of any kind.

Filing Dates: The application was filed on November 20, 2006, and amended on December 11, 2006.

Applicant's Address: 123 N Wacker Dr., 28th Floor, Chicago, IL 60606.

Evergreen Hedged Specialists Fund, LLC [File No. 811-21174]; Evergreen Managed Strategies Fund, LLC [File No. 811-21175]

Summary: Each applicant, a closed-end investment company, seeks an order declaring that it has ceased to be an investment company. Applicants have never made a public offering of their securities and do not propose to make a public offering or engage in business of any kind.

Filing Dates: The applications were filed on March 21, 2005, and amended on November 29, 2006.

Applicants' Address: 200 Berkeley St., Boston, MA 02116.

The New York Tax-Exempt Fund, Inc. [File No. 811-5278]

Summary: Applicant, a closed-end investment company, seeks an order declaring that it has ceased to be an investment company. On February 19, 1999, applicant transferred its assets to Oppenheimer New York Municipal Fund, based on net asset value. Less than $30,000 in expenses were incurred in connection with the reorganization and were paid by applicant.

Filing Dates: The application was filed on August 9, 2002, and amended on December 4, 2006.

Applicant's Address: OppenheimerFunds, Inc., 6803 South Tucson Way, Centennial, CO 80112.

For the Commission, by the Division of Investment Management, pursuant to delegated authority.
Jill M. Peterson,
Assistant Secretary.

[FR Doc. E7-14 Filed 1-5-07; 8:45 am]

BILLING CODE 8011-01-P